DEPARTMENT OF LABOR

Meeting of the Labor Advisory Committee for Trade Negotiation and Trade Policy

AGENCY: Bureau of International Labor Affairs, U.S. Department of Labor, and Office of the United States Trade Representative.

ACTION: Meeting notice.

SUMMARY: Notice is hereby given of a meeting of the Labor Advisory Committee for Trade Negotiation and Trade Policy.

DATES: March 25, 2019, 10:30 a.m. to 12:00 p.m.; U.S. Department of Labor, Secretary's Conference Room, 200 Constitution Ave. NW, Washington, DC.

FOR FURTHER INFORMATION CONTACT: Anne M. Zollner, Chief, Trade Policy and Negotiations Division, Bureau of International Labor Affairs, U.S. Department of Labor; Phone: (202) 693-4890.

SUPPLEMENTARY INFORMATION: The U.S. Department of Labor and the Office of the U.S. Trade Representative are co-sponsors of this Federal Advisory Committee. The meeting will include a review and discussion of current issues which influence U.S. trade policy. Potential U.S. negotiating objectives and bargaining positions in current and anticipated trade negotiations will be discussed. Pursuant to 19 U.S.C. 2155(f)(2)(A), it has been determined that the meeting will be concerned with matters the disclosure of which would seriously compromise the Government's negotiating objectives or bargaining positions. Therefore, the meeting is exempt from the requirements of subsections (a) and (b) of sections 10 and 11 of the Federal Advisory Committee Act (relating to open meetings, public notice, public participation, and public availability of documents). 5 U.S.C. app. Accordingly, the meeting will be closed to the public.

Signed at Washington, DC.
Martha E. Newton,
Deputy Undersecretary, Bureau of International Labor Affairs.

[FR Doc. 2019-03307 Filed 2-25-19; 8:45 am]

BILLING CODE 4510-28-P